DEPARTMENT OF HEALTH AND HUMAN SERVICES

Centers for Disease Control and Prevention

[60Day-08-08AJ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-693-5960 or send comments to CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Focus Group Testing To Effectively Plan and Tailor Cancer Prevention and Control Communication Campaigns—New—Division of Cancer Prevention and Control (DCPC), National Center for Chronic Disease Prevention and Health Promotion (NCCDPHP), Centers for Disease Control and Prevention (CDC).

Background and Brief Description

The mission of the CDC's Division of Cancer Prevention and Control (DCPC) is to reduce the burden of cancer in the United States through cancer prevention, reduction of risk, early detection, better treatment, and improved quality of life for cancer survivors. Toward this end, the DCPC supports the scientific development, implementation, and evaluation of various health communication campaigns with an emphasis on specific cancer burdens. This process requires testing of messages, concepts, and materials prior to their final development and dissemination, as described in the second step of the health communication process, a scientific model developed by the U.S. Department of Health and Human Services' National Cancer Institute to guide sound campaign development.

The communication literature supports various data collection methods to conduct credible formative, concept, message, and materials testing, one of which is focus groups. The purpose of focus groups is to ensure that the public and other key audiences, like health professionals, clearly understand cancer-specific information and concepts, are motivated to take the desired action, and do not react negatively to the messages.

The proposed information collection will involve focus groups to assess numerous qualitative dimensions of cancer prevention and control messages, including, but not limited to, knowledge, attitudes, beliefs, behavioral intentions, information needs and sources, and compliance to recommended screening intervals. Insights gained from the focus groups will assist in the development and/or refinement of future campaign messages and materials. Respondents will include health care providers as well as members of the general public. Because communication campaigns will vary according to the type of cancer, the qualitative dimensions of the message described above, and the type of respondents, DCPC has developed a library of questions that can be tailored for use by a variety of types of focus groups. A generic clearance of the repository of questions is requested. The discussion guide for each focus group will be drawn from the list of pre-approved questions.

The average burden for each focus group discussion will be two hours. DCPC will conduct or sponsor up to 66 focus groups per year over a three-year period. An average of 12 respondents will participate in each focus group discussion.

There are no costs to respondents except their time. The total estimated annualized burden hours are 1,663.

Estimated Annualized Burden Hours:

Type of respondents and form name | Number of respondents | Number of responses per respondent | Average burden per response (in hours) | Total burden (in hours)
Health care providers and general public:
Screening Form | 1,584 | 1 | 3/60 | 79
Focus Group Discussion Guide | 792 | 1 | 2 | 1,584
Total |  |  |  | 1,663

Dated: January 18, 2008.
Maryam I. Daneshvar,
Acting Reports Clearance Officer, Centers for Disease Control and Prevention.

[FR Doc. E8-1456 Filed 1-28-08; 8:45 am]

BILLING CODE 4163-18-P